DEPARTMENT OF AGRICULTURE

Food and Nutrition Service

Agency Information Collection Activities: Proposed Collection; Comments Request—Understanding Risk Assessment in Supplemental Nutrition Assistance Program (SNAP) Payment Accuracy Study

AGENCY: Food and Nutrition Service (FNS), USDA.

ACTION: Notice.

SUMMARY: In accordance with the Paperwork Reduction Act of 1995, this notice invites the general public and other public agencies to comment on this proposed information collection. This collection is a new collection. The primary purpose of this study is to provide FNS with information about SNAP State agencies' use of risk assessment (RA) tools to reduce payment errors, the effects of these tools, and best practices for FNS and the SNAP State agencies to consider in the development and use of RA tools. RA tools may apply statistical models using SNAP household characteristics to estimate the relative risk of improper payment.

DATES: Written comments must be received on or before September 18, 2023.

ADDRESSES: Comments may be sent to: Eric Williams, Food and Nutrition Service, U.S. Department of Agriculture, 1320 Braddock Place, Alexandria, VA 22314. Comments may also be submitted via email to eric.williams@usda.gov. Comments will also be accepted through the Federal eRulemaking Portal. Go to https://www.regulations.gov, and follow the online instructions for submitting comments electronically. All written comments will be open for public inspection at the office of FNS during regular business hours (8:30 a.m. to 5 p.m. Monday through Friday) at 1320 Braddock Place, Alexandria, VA 22314. All responses to this notice will be summarized and included in the request for Office of Management and Budget approval. All comments will be a matter of public record.

FOR FURTHER INFORMATION CONTACT: Requests for additional information or copies of this information collection should be directed to Eric Williams at 703-305-2640.

SUPPLEMENTARY INFORMATION: Comments are invited on the following topics: (a) whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on respondents, including use of appropriate automated, electronic, mechanical, or other technological collection techniques or other forms of information technology.

Title: Understanding Risk Assessment in Supplemental Nutrition Assistance Program (SNAP) Payment Accuracy.

Form Number: Not applicable.

OMB Number: 0584-NEW.

Expiration Date: Not yet determined.

Type of Request: New collection.

Abstract: The Supplemental Nutrition Assistance Program (SNAP) is the largest hunger safety net program in the United States, providing food assistance benefits to roughly one in eight Americans. SNAP is administered by the U.S. Department of Agriculture's (USDA) Food and Nutrition Service (FNS). Although the benefits are federally funded and must be issued in accordance with Federal statutes and regulations, SNAP State agencies are responsible for determining eligibility and calculating appropriate benefit amounts for eligible participants. SNAP State agencies have flexibility in administering the program through a range of policy options, waivers of regulations, and demonstration projects. The challenges associated with accurately documenting households' circumstances and calculating benefits within the context of complex regulations, options, and waivers lead to a degree of improper payments.

The Payment Integrity Information Act of 2019 continues the work of previous related legislation in requiring Federal agencies to track and mitigate improper payments, which are defined as payments that either should not have been made or were made in an incorrect amount. FNS and the SNAP State agencies use SNAP Quality Control (QC) to closely monitor the program for improper payments. SNAP State agencies must conduct a QC review of a random sample of current cases each month (referred to as active cases) to identify underpayments and overpayments and calculate total payment error. At the end of the review period for each month's cases, the SNAP State agencies share the case files and results with Federal SNAP staff, who review a subsample of the cases for accuracy and use the results to calculate an annual official payment error rate for each State agency's official payment error rate.

Some social welfare agencies and criminal justice organizations have begun using risk assessment (RA) tools. These tools apply a statistical model to case characteristics to estimate the relative risk of a particular outcome. Agencies that use RA tools may use the output to allocate staff resources such that the riskiest cases receive the most time and attention. This is intended to improve program outcomes but may have unintended consequences. As RA tool use becomes more common across social sectors, it is critical to address the risk of bias in these tools. Bias can enter RA tools through the data used to build them and the way the tool uses those data to predict risk and may impinge on civil rights by leading to disparate treatments and/or disparate impacts.

FNS is conducting a study, Understanding Risk Assessment in Supplemental Nutrition Assistance Program (SNAP) Payment Accuracy, to develop a comprehensive picture of whether and how SNAP State agencies use RA tools and determine if these tools create disparate impacts on protected classes. The key research objectives follow: (1) determine which States use RA tools to reduce error rates; (2) determine what factors and variables are being used in RA tools; (3) identify how SNAP State agencies act on the results of their RA tools; (4) determine whether SNAP State agencies' RA tools are successful in reducing error rates; (5) determine if the RA tools create (or relieve) racial or other disparities by which individuals are flagged for further review; and (6) determine best practices in the development and use of RA tools.

The study approach includes a survey, case studies, and a request for administrative data from SNAP State agencies. Data will be collected via a web-based census survey of the 53 SNAP State agencies. Case studies will be completed with six SNAP State agencies; these case studies will include telephone interviews with up to five types of State-level staff and up to two types of local SNAP agency staff (as applicable). The types of State-level staff will include RA tool development leads, SNAP Quality Control Directors, SNAP Quality Assurance Directors, IT systems staff, and data analysis staff. The types of local SNAP agency staff will include local agency supervisors and local agency eligibility staff. The study team will also request administrative data from the SNAP State agencies that use an RA tool.

Affected Public: Respondent groups identified include the following: (1) individuals/households (pretest participants); and (2) State, local, and Tribal government (SNAP State agencies and SNAP local offices).

Estimated Number of Respondents: The total estimated sample size and the number of respondents is 100. The team expects all sample units to respond to all relevant data collection activities. The study includes 53 SNAP State agency directors and up to 5 other staff in 6 selected SNAP State agencies that use RA tools. The study also includes a SNAP local office supervisor and a local office eligibility staff member for local offices of relevant selected SNAP State agencies that use RA tools. The study also has 5 pretest participants from a pool of 5 possible pretest participants. Some pretest participants will pretest more than one instrument. The study team expects all SNAP State agencies to respond to the survey. The exact number of SNAP State agencies that use RA tools is currently unknown, but estimates suggest the number is 15 or fewer. Under the assumption that 15 SNAP State agencies have RA tools, the study team expects all 15 of these SNAP State agencies to respond to the survey and provide data on their RA tool. The team expects 6 of these 15 SNAP State agencies to also participate in case study interviews. These estimates assume all potential respondents will eventually respond to their relevant information collections.

Estimated Frequency of Response: The estimated frequency of response is 7.44 annually for respondents.

Estimated Total Annual Responses: The total estimated number of responses for data collection is 744 from respondents.

Estimated Time per Respondent: The estimated time of response varies from 2 minutes to 1 hour and 45 minutes, depending on the respondent group and activity, as shown in table 1. The average estimated response is 0.15 hours.

Estimated Total Annual Burden on Respondents: The total public reporting burden for this collection of information is estimated at 111 hours (annually). The estimated burden for each type of respondent is provided in table 1.

BILLING CODE 3410-30-P

Tameka Owens,
Assistant Administrator, Food and Nutrition Service.

[FR Doc. 2023-15209 Filed 7-18-23; 8:45 am]

BILLING CODE 3410-30-C